NUCLEAR REGULATORY COMMISSION

Agency Information Collection Activities: Submission for the Office of Management and Budget (OMB) Review; Comment Request

AGENCY: U. S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection: “NRC Forms 366, 366A, 366B, ‘Licensee Event Report”.

3. The form number if applicable: NRC Forms 366, 366A, 366B.

4. How often the collection is required: On occasion, as defined reactor events are reportable as they occur.

5. Who will be required or asked to report: Holders of operating licenses for commercial nuclear power plants.

6. An estimate of the number of annual responses: 400.

7. The estimated number of annual respondents: 104.

8. An estimate of the total number of hours needed annually to complete the requirement or request: 32,000 (25,600 reporting + 6,400 record keeping). This is estimated to be 80 hours for each of 400 reports annually.

9. An indication of whether Section 3507(d), Public Law 104-13 applies: Not applicable.

10. Abstract: With NRC Forms 366, 366A, and 366B, the NRC collects reports of the types of reactor events and problems that are believed to be significant and useful to the NRC in its efforts to identify and resolve possible threats to the public safety. These forms are designed to provide the information necessary for engineering studies of operational anomalies and trends and patterns analysis of abnormal occurrences. The same information is used for other analytic procedures that aid in identifying accident precursors.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by June 4, 2007. Comments received after this date will be considered if it is practical to do so, but assurance of consideration cannot be given to comments received after this date.

Margaret A. Malanoski, Desk Officer, Office of Information and Regulatory Affairs (3150-0104), NEOB-10202, Office of Management and Budget, Washington, DC 20503.

Comments can also be e-mailed to Margaret_A._Malanoski@omb.eop.gov or submitted by telephone at (202) 395-3122.

The NRC Clearance Officer is Margaret A. Janney, 301-415-7245.

Dated at Rockville, Maryland, this 27th day of April, 2007.
For the Nuclear Regulatory Commission.
Margaret A. Janney,
NRC Clearance Officer, Office of Information Services.

[FR Doc. E7-8436 Filed 5-2-07; 8:45 am]

BILLING CODE 7590-01-P